DEPARTMENT OF HOMELAND SECURITY

Coast Guard

33 CFR Part 165

[Docket No. USCG-2025-0125]

Safety Zone; Recurring Events in Captain of the Port Duluth Zone—Pointe to La Pointe Swim

AGENCY: Coast Guard, DHS.

ACTION: Notification of enforcement of regulation.

SUMMARY: The Coast Guard will enforce the safety zone for the Pointe to La Pointe Swim event in Bayfield, WI from 7 a.m. through 12 noon on August 2, 2025. This action is necessary to protect participants and spectators during the event. During the enforcement period, entry into, transiting, or anchoring within the safety zone is prohibited unless authorized by the Captain of the Port, Duluth or a designated on-scene representative.

DATES: The regulations in 33 CFR 165.943 will be enforced as listed in table 1, Event (9) to 33 CFR 165.943 from 7 a.m. through 12 noon on August 2, 2025.

FOR FURTHER INFORMATION CONTACT: If you have questions about this notification of enforcement, call or email LT Zachary Fedak, Marine Safety Unit Duluth, U.S. Coast Guard; telephone (218) 725-3818, email DuluthWWM@uscg.mil.

SUPPLEMENTARY INFORMATION: The Coast Guard will enforce the safety zone for the annual Pointe to La Pointe Swim event in 33 CFR 165.943, table 1, Event (9) from 7 a.m. through 12 noon on August 2, 2025 on all waters between Bayfield, WI and Madeline Island, WI within a polygon formed by straight lines using the following coordinates: Starting Position 46°48′50″ N, 090°48′44″ W, moving southeast to 46°46′44″ N, 090°47′33″ W, then moving northeast to 46°46′52″ N, 090°47′17″ W, then moving northwest to 46°49′03″ N, 090°48′25″ W, and finally returning to the starting position.

Entry into, transiting, or anchoring within the safety zone is prohibited unless authorized by the Captain of the Port Duluth or a designated on-scene representative.

This notice of enforcement is issued under authority of 33 CFR 165.943 and 5 U.S.C. 552 (a). In addition to this publication in the Federal Register, the Coast Guard will provide the maritime community with advance notification of the enforcement of this safety zone via Broadcast Notice to Mariners or Local Notice to Mariners. The Captain of the Port Duluth may be contacted via Channel 16, VFH-FM or at (218) 428-9357.

Dated: April 15, 2025.
J.P. Botti,
Commander, U.S. Coast Guard, Captain of the Port Duluth.

[FR Doc. 2025-07100 Filed 4-29-25; 8:45 am]

BILLING CODE 9110-04-P